DEPARTMENT OF LABOR

Employment and Training Administration

Agency Information Collection Activities; Comment Request for Information Collection for Migrant and Seasonal Farmworker (MSFW) Monitoring Report and Complaint/Apparent Violation Form (Extension Without Changes)

ACTION: Notice.

SUMMARY: The Department of Labor's (DOL) Employment and Training Administration (ETA) is soliciting comments concerning a proposed extension for the authority to conduct the information collection request (ICR) titled, “Migrant and Seasonal Farmworker (MSFW) Monitoring Report and Complaint/Apparent Violation Form.”

This comment request is part of continuing Departmental efforts to reduce paperwork and respondent burden in accordance with the Paperwork Reduction Act of 1995 (PRA).

DATES: Consideration will be given to all written comments received by May 6, 2019.

ADDRESSES: Comments submitted in response to this notice should be submitted electronically at nma@dol.gov or via postal mail, commercial delivery, or hand delivery. A copy of this ICR with applicable supporting documentation, including a description of the likely respondents, proposed frequency of response, and estimated total burden, may be obtained free by contacting Juan M. Regalado, Office of Workforce Investment, Room C-4510, Employment and Training Administration, U.S. Department of Labor, 200 Constitution Avenue NW, Washington, DC 20210. Telephone number: 415-625-7904 (this is not a toll-free number). Individuals with hearing or speech impairments may access the telephone number above via TTY by calling the toll-free Federal Information Relay Service at 1-877-889-5627 (TTY/TDD) or by email at regalado.juan@dol.gov.

Submit written comments about or requests for a copy of this ICR by mail or courier to the U.S. Department of Labor, Office of Workforce Investment, Room C-4510, Employment and Training Administration, U.S. Department of Labor, 200 Constitution Avenue NW, Washington, DC 20210; by email at nma@dol.gov; or by Fax 202-693-981.

FOR FURTHER INFORMATION CONTACT: Juan M. Regalado by telephone at 415-625-7904 (this is not a toll-free number) or by email at regalado.juan@dol.gov.

SUPPLEMENTARY INFORMATION: DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

In accordance with the authority of the Paperwork Reduction Act of 1995 [44 U.S.C. 3506(c)(2)(A)] (PRA), DOL continues its efforts to reduce paperwork and respondent burden. Pursuant to 20 CFR 653.109, State Workforce Agencies (SWA) use ETA Form 5148, to submit to DOL quarterly data on the services they provide to MSFWs. DOL uses that data to monitor and measure the extent and effectiveness of SWA service delivery to MSFWs and overall compliance with 20 CFR 651, 653, and 658. SWAs use the Complaint/Apparent Violation Form, ETA Form 8429, to record and process complaints.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0039.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Extension without changes.

Title of Collection: Migrant and Seasonal Farmworker Monitoring Report and Complaint/Apparent Violation Form.

Forms: ETA 5148, ETA 8429.

OMB Control Number: 1205-0039.

Affected Public: Farmworkers, SWAs, agricultural employers, and the public.

Estimated Number of Respondents: 51 for ETA Form 5148, and 3,082 for ETA Form 8429.

Frequency: Quarterly for ETA Form 5148, and frequently for ETA Form 8429.

Total Estimated Annual Responses: 204 for ETA Form 5148, and 3,082 for ETA Form 8429.

Estimated Average: Time per Response: 60 minutes for reporting and 4.43 hours for record keeping for ETA Form 5148, and 120 minutes for reporting and 30 minutes for completion of ETA Form 8429.

Estimated Total Annual Burden Hours: 1,108 hours for ETA Form 5148, and 7,705 hours for ETA Form 8429.

The annual burden for this ICR decreased from 9,706 hours to 8,813 hours (1,108 hours for the 5148, 7,705 hours for the 8429), resulting in a decrease of 893 hours over ETA's previous estimate.

Total Estimated Annual Other Cost Burden: $0.

Molly E. Conway,
Acting Assistant Secretary for Employment and Training Administration, U.S. Department of Labor.

[FR Doc. 2019-04092 Filed 3-6-19; 8:45 am]

BILLING CODE 4510-FN-P